DEPARTMENT OF JUSTICE

Antitrust Division

Notice Pursuant to the National Cooperative Research and Production Act of 1993—DVD Copy Control Association

Notice is hereby given that, on September 13, 2007, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, A-Com International Co., Ltd., Hsinchu, Taiwan; ASD Electronics Ltd., Kowloon, Hong Kong-China; AVT International Limited, Kowloon, Hong Kong-China; AWIND Inc., Taipei, Taiwan; Mitsubishi Chemical Corporation, Tokyo, Japan; MOD Systems, Inc., Seattle, WA; New Medium Enterprises, Inc., London, United Kingdom; and TechniSat Digital GmbH, Daun, Germany have been added as parties to this venture.

Also, D-Link Systems, Inc., Fountain Valle, CA; Dyntec Disc Production Co., Ltd., Nakhon, Pathom, Thailand; Hong Kong Konka Ltd., Kway Chung NT, Hong Kong-China; Lenovo (Singapore) Pte. Ltd., Singapore, Singapore; Lynic Technology PLC, Slough, Berkshire, United Kingdom; Maxi World Technology Limited, Kwun Tong, Hong Kong-China; Newcom Technology Corporation, Taipei, Taiwan, OptiDisc Corporation, Anaheim, CA; Raymedia Co., Ltd., Gyeonggi-do, Republic of Korea; Soundmax Electronics Limited, Kowloon, Hong Kong-China; and Taiwan Thick—Film Ind. Corp., Taipei Hsien, Taiwan have withdrawn as parties to this venture.

No other changes have been made in either the membership or planned activity of the group research project. Membership in this group research project remains open, and DVD CCA intends to file additional written notifications disclosing all changes in membership.

On April 11, 2001, DVD CCA filed its original notification pursuant to Section 6(a) of the Act. The Department of Justice published a notice in the Federal Register pursuant to Section 6(b) of the Act on August 3, 2001 (66 FR 40727).

The last notification was filed with the Department on June 15, 2007. A notice was published in the Federal Register pursuant to Section 6(b) of the Act on September 11, 2007 (72 FR 51840).

Patricia A. Brink,
Deputy Director of Operations, Antitrust Division.

[FR Doc. 07-5565 Filed 11-6-07; 8:45 am]

BILLING CODE 4410-11-M